DEPARTMENT OF THE INTERIOR

National Park Service

[NPS-WASO-NAGPRA-NPS0034979; PPWOCRADN0-PCU00RP14.R50000]

Notice of Intent To Repatriate Cultural Items: North Carolina Office of State Archaeology, Raleigh, NC

AGENCY: National Park Service, Interior.

ACTION: Notice.

SUMMARY: The North Carolina Office of State Archaeology, in consultation with the appropriate Indian Tribes or Native Hawaiian organizations, has determined that the cultural item listed in this notice meets the definition of an object of cultural patrimony. Lineal descendants or representatives of any Indian Tribe or Native Hawaiian organization not identified in this notice that wish to claim this cultural item should submit a written request to the North Carolina Office of State Archaeology. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to the Office of State Archaeology at the address in this notice by January 9, 2023.

FOR FURTHER INFORMATION CONTACT: Emily McDowell, North Carolina Office of State Archaeology, 215 West Lane Street, Raleigh, NC 27616, telephone (919) 715-5599, email emily.mcdowell@ncdcr.gov.

SUPPLEMENTARY INFORMATION: Notice is here given in accordance with the Native American Graves Protection and Repatriation Act (NAGPRA), 25 U.S.C. 3005, of the intent to repatriate a cultural item under the control of the North Carolina Office of State Archaeology, Raleigh, NC, that meet the definition of an object of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

In 2009, a single, intentional domestic dog burial was removed from 31MA77, the Iotla site, in Macon County, NC, during archeological data recovery conducted by TRC Environmental Corporation. These excavations were conducted on behalf of the Macon County Airport Authority to mitigate adverse effects to the site by a planned runway expansion, in consultation with the Federal Aviation Authority as part of the review process under 54 U.S.C. 306108 (also known as Section 106 of the National Historic Preservation Act).

In May of 2021, representatives from the Cherokee Tribes expressed interest in repatriation of the dog burial. In October of 2021, the burial remains were transferred to the North Carolina Office of State Archaeology Research Center, whereupon Research Center staff began collecting information and conducting consultation on this item.

The object of cultural patrimony is a single, adult male domestic dog burial. The skeleton was well preserved and mostly complete. The dog burial is associated with the Late Qualla Historic Cherokee occupation at the Iotla site. Given the importance of dogs in Cherokee culture and the intention with which these remains were placed in the ground, this dog was of importance to the community that buried him.

Determinations Made by the North Carolina Office of State Archaeology

Officials of the North Carolina Office of State Archaeology have determined that:

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between the object of cultural patrimony and the Cherokee Nation; Eastern Band of Cherokee Indians; and the United Keetoowah Band of Cherokee Indians in Oklahoma (hereafter referred to as “The Tribes”).

Additional Requestors and Disposition

Lineal descendants or representatives of any Indian Tribe or Native Hawaiian organization not identified in this notice that wish to claim this cultural item should submit a written request with information in support of the claim to Emily McDowell, North Carolina Office of State Archaeology, 215 West Lane Street, Raleigh, NC 27616, telephone (919) 715-5599, email emily.mcdowell@ncdcr.gov, by January 9, 2023. After that date, if no additional claimants have come forward, transfer of control of the object of cultural patrimony to The Tribes may proceed.

The North Carolina Office of State Archaeology is responsible for notifying The Tribes that this notice has been published.

Dated: November 30, 2022.
Melanie O'Brien,
Manager, National NAGPRA Program.

[FR Doc. 2022-26801 Filed 12-8-22; 8:45 am]

BILLING CODE 4312-52-P